DEPARTMENT OF HEALTH AND HUMAN SERVICES

Centers for Medicare & Medicaid Services

[Document Identifier: CMS-10262, CMS-21 and 21B, CMS-10143 and CMS-64]

Agency Information Collection Activities: Submission for OMB Review; Comment Request

Agency: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New Collection; Title of Information Collection: Health Insurance Flexibility and Accountability (HIFA) Evaluation; Use: The HIFA initiative sought to increase health coverage of uninsured populations through a flexible waiver process emphasizing public subsidy of Employer-Sponsored Insurance (ESI). Testing whether that approach reduces the rate/number of uninsured is critically important to CMS. The proposed survey of HIFA enrollees in New Medico and Oregon would provide the only data available to test certain fundamental HIFA effects, especially with reference to reduction of the uninsured population, the effectiveness of premium assistance for ESI and the possibility of crowd-out of private coverage. Form Number: CMS-10262 (OMB# 0938-NEW); Frequency: Once; Affected Public: Individuals or households; Number of Respondents: 800; Total Annual Responses: 800; Total Annual Hours: 400.

2. Type of Information Collection Request: Extension of a currently approved collection; Title of Information Collection: Quarterly Children's Health Insurance Program Statement of Expenditures for Title XXI; Use: States use the form CMS-21 to report budget, expenditure, and related statistical information required for implementation of the Children's Health Insurance Program. Form Number: CMS-21 and 21B (OMB# 0938-0731); Frequency: Quarterly; Affected Public: State, Local or Tribal Government; Number of Respondents: 56; Total Annual Responses: 448; Total Annual Hours: 7,840.

3. Type of Information Collection Request: Extension of a currently approved collection; Title of Information Collection: Monthly State File of Medicaid/Medicare Dual Eligible Enrollees; Use: The monthly file of dual eligible enrollees will be used to determine those duals with drug benefits for the phased down State contribution process required by the Medicare Modernization Act of 2003. These data are also used to support Part D subsidy determinations and auto-assignment of individuals to Part D plans. Form Number: CMS-10143 (OMB# 0938-0958); Frequency: Monthly; Affected Public: State, Local or Tribal Governments; Number of Respondents: 51; Total Annual Responses: 612; Total Annual Hours: 6,120.

4. Type of Information Collection Request: Extension of a currently approved collection; Title of Information Collection: Quarterly Medicaid Statement of Expenditures for the Medical Assistance Program; Use: The State Medicaid Agencies use the form CMS-64 to report their actual program benefit costs and administrative expenses to CMS. CMS uses this information to compute the Federal financial participation for the State's Medicaid Program costs. Form Number: CMS-64 (OMB# 0938-0067); Frequency: Quarterly; Affected Public: State, Local or Tribal Government; Number of Respondents: 56; Total Annual Responses: 224; Total Annual Hours: 18,144.

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received by the OMB desk officer at the address below, no later than 5 p.m. on July 7, 2008. OMB Human Resources and Housing Branch, Attention: Carolyn Raffaelli, New Executive Office Building, Room 10235, Washington, DC 20503, Fax Number: (202) 395-6974.

Dated: May 30, 2008.
Michelle Shortt,
Director, Regulations Development Group, Office of Strategic Operations and Regulatory Affairs.

[FR Doc. E8-12574 Filed 6-5-08; 8:45 am]

BILLING CODE 4120-01-P